DEPARTMENT OF COMMERCE

National Oceanic and Atmospheric Administration

[RTID 0648-XA659]

South Atlantic Fishery Management Council (Council); Public Meetings

AGENCY: National Marine Fisheries Service (NMFS), National Oceanic and Atmospheric Administration (NOAA), Commerce.

ACTION: Notice of Gulf of Mexico Fishery Management Council (GMFMC) and South Atlantic Fishery Management Council (SAFMC) informational webinars.

SUMMARY: The GMFMC and SAFMC will host informational webinars on behalf of NOAA Fisheries regarding the implementation of the Southeast For-Hire Electronic Reporting Program.

DATES: The GMFMC will host two For-Hire Electronic Reporting informational webinars on December 15, 2020, from 10 a.m. until 12 p.m. and from 6 p.m. until 8 p.m. The SAFMC will host two For-Hire Electronic Reporting informational webinars on December 16, 2020, from 10 a.m. until 12 p.m. and from 6 p.m. to 8 p.m.

ADDRESSES: The meetings will be held via webinar.

FOR FURTHER INFORMATION CONTACT: Cameron Rhodes, Outreach Program Manager, SAFMC; phone: (843) 571-4366 or toll free: (866) SAFMC-10; fax: (843) 769-4520; email: Cameron.rhodes@safmc.net.

SUPPLEMENTARY INFORMATION: The GMFMC and SAFMC on behalf of NOAA Fisheries will each host informational webinars regarding the upcoming implementation of the Southeast For-Hire Electronic Reporting Program. Requirements for South Atlantic federal permit holders become effective January 4, 2020 and requirements for Gulf of Mexico federal permit holders become effective January 5, 2020. The informational webinars will provide hands-on training from staff with the Southeast For-Hire Electronic Reporting Program and provide opportunities for participants to ask questions about the program and approved software.

The webinars are open to the public. Registration is required. Additional information, including links to registration for each informational webinar is available at: https://www.fisheries.noaa.gov/southeast/southeast-electronic-reporting-technologies.

Special Accommodations

The meetings are physically accessible to people with disabilities. Requests for auxiliary aids should be directed to the Council office (see ADDRESSES) 5 days prior to the meeting.

Note: The end times specified for these webinars are subject to change.

(Authority: 16 U.S.C. 1801 et seq.)

Dated: November 23, 2020.
Diane M. DeJames-Daly,
Acting Deputy Director, Office of Sustainable Fisheries, National Marine Fisheries Service.

[FR Doc. 2020-26242 Filed 11-25-20; 8:45 am]

BILLING CODE 3510-22-P